DEPARTMENT OF HOUSING AND URBAN DEVELOPMENT

[Docket No. FR-5923-N-02]

Notice of a Federal Advisory Committee Meeting Manufactured Housing Consensus Committee Technical Systems Subcommittee Meeting NFPA 70-2014 Task Group

AGENCY: Office of the Assistant Secretary for Housing—Federal Housing Commissioner, Department of Housing and Urban Development (HUD).

ACTION: Notice of a Federal Advisory Committee Meeting: Manufactured Housing Consensus Committee (MHCC).

SUMMARY: This notice sets forth the schedule and proposed agenda for a teleconference meeting of the MHCC, Technical Systems Subcommittee, NFPA 70-2014 Task Group. The meeting is open to the public. The agenda provides an opportunity for citizens to comment on the business before the MHCC.

DATES: The teleconference meeting will be held on May 25, 2016, from 1:00 p.m. to 4:00 p.m. Eastern Daylight Time (EDT). The teleconference numbers are US toll free: 866-622-8461 and Participant Code 4325434.

FOR FURTHER INFORMATION CONTACT: Pamela Beck Danner, Administrator, Department of Housing and Urban Development, Office of Manufactured Housing Programs, 451 7th Street SW., Room 9168, Washington, DC 20410, telephone (202) 708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974, 42 U.S.C. 5403(a)(3), as amended by the Manufactured Housing Improvement Act of 2000, (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulation specifying the permissible scope and conduct of monitoring in accordance with subsection (b);

• Be organized and carry out its business in a manner that guarantees a fair opportunity for the expression and consideration of various positions and for public participation.

The MHCC is deemed an advisory committee not composed of Federal employees.

Public Comment: Citizens wishing to make comments on the business of the MHCC are encouraged to register before May 20, 2016, by contacting Home Innovation Research Labs, Attention: Kevin Kauffman, 400 Prince Georges Blvd., Upper Marlboro, MD 20774, or email to mhcc@homeinnovation.com or call 1-888-602-4663. Written comments are encouraged. The MHCC strives to accommodate citizen comments to the extent possible within the time constraints of the meeting agenda. Advance registration is strongly encouraged. The MHCC will also provide an opportunity for public comment on specific matters before the Technical Systems Subcommittee, NFPA 70-2014 Task Group.

Tentative Agenda

Wednesday, May 25, 2016, From 1:00 p.m. to 4:00 p.m. Eastern Daylight Time (EDT)

I. Call to Order and Roll Call

II. Opening Remarks—NFPA 70-2014—Task Group, Chair and DFO

III. Approve minutes from January 19, 2016, Technical Systems Subcommittee, NFPA 70—2014, Task Group

IV. New Business:

• Consider replacing Subpart I of 24 CFR 3280 with incorporation by reference of applicable provisions of NFPA 70, National Electrical Code -2014, and

• Review submitted proposed amendments to NFPA 70, National Electrical Code

V. Open Discussion

VI. Public Comments

VII. Adjourn 4:00 p.m.

Dated: April 14, 2016.
Pamela Beck Danner,
Administrator, Office of Manufactured Housing Programs.

[FR Doc. 2016-09051 Filed 4-19-16; 8:45 am]

BILLING CODE 4210-67-P